DEPARTMENT OF COMMERCE

National Oceanic and Atmospheric Administration

Agency Information Collection Activities; Submission to the Office of Management and Budget (OMB) for Review and Approval; Notification of Request for an Emergency Clearance; National Marine Fisheries Service, Office of Law Enforcement Cooperative Enforcement Program Partner Survey of Need (FY2022 Consolidated Appropriations Act Report)

The Department of Commerce will submit the following information collection request to the Office of Management and Budget (OMB) for review and clearance utilizing emergency review procedures in accordance with the Paperwork Reduction Act of 1995, on or after the date of publication of this notice. This Notice proposes the emergency/expedited clearance to collect information regarding cooperative enforcement agreements with partner state and territorial law enforcement agencies as required by the recently issued the Consolidated Appropriations Act, 2022. NOAA requests emergency processing and OMB authorization to collect the information after publication of this Notice for a period of six (6) months.

Agency: National Oceanic and Atmospheric Administration (NOAA), Commerce.

Title: National Marine Fisheries Service, Office of Law Enforcement Cooperative Enforcement Program Partner Survey of Need.

OMB Control Number: 0648-XXXX.

Form Number(s): None.

Type of Request: Emergency submission, New Information Collection Request.

Number of Respondents: 29.

Average Hours per Response: 2 hours.

Burden Hours: 58.

Needs and Uses: NOAA's National Marine Fisheries Service (NMFS) Office of Law Enforcement (OLE) is sponsoring this congressionally mandated information collection. The information is collected under the authority of the Consolidated Appropriations Act of 2022 (117th Congress (221-2022)).

The purpose of the collection is to acquire, analyze, and report on detailed information about the OLE's Cooperative Enforcement Program (CEP) partner agencies' needs, as directed by Congress. The information will be collected from OLE's twenty-nine (29) Cooperative Enforcement Program partner agencies and will ask questions related to shortages of trained personnel, maintaining maritime domain awareness, formal operational agreements with other Federal law enforcement agencies, and access to advanced technological enforcement tools, as directed by Congress. The partner agencies are located in twenty-eight (28) states and territories: Alaska, Alabama, American Samoa, California, Connecticut, Delaware, Florida, Georgia, Guam (two agencies), Hawaii, Louisiana, Massachusetts, Maryland, Maine, Michigan, Northern Mariana Islands, Mississippi, New Hampshire, New Jersey, New York, Oregon, Puerto Rico, Rhode Island, South Carolina, Texas, Virginia, Virgin Islands, Washington.

The information will be used to supply Congress with a detailed report describing the needs expressed by the Office of Law Enforcement's Cooperative Enforcement Program partner agencies. This is a unique one-time only collection of information from Office of Law Enforcement's Cooperative Enforcement Program partner agencies as directed by Congress.

As provided under 5 CFR 1320.13, NOAA is requesting emergency processing for cooperative enforcement program data. NOAA cannot reasonably comply with normal clearance procedures since the use of normal clearance procedures is reasonably likely to cause a congressionally mandated deadline to be missed. As required by the Consolidated Appropriations Act, 2022, NOAA is expected to submit a report to Congress no less than 180 days after enactment of the Act. Therefore, NOAA is requesting OMB approval as soon as possible (i.e., 5 business days after publication of this Notice) for this collection of information.

Affected Public: State and territorial government natural resource law enforcement agencies who are members of Office of Law Enforcement's Cooperative Enforcement Program.

Frequency: Once.

Respondent's Obligation: Voluntary.

Legal Authority: 44 U.S.C. 3501-3520.

This information collection request may be viewed at www.reginfo.gov. Follow the instructions to view the Department of Commerce collections currently under review by OMB.

Sheleen Dumas,
Department PRA Clearance Officer, Office of the Chief Information Officer, Commerce Department.

[FR Doc. 2022-09578 Filed 5-3-22; 8:45 am]

BILLING CODE 3510-22-P